DEPARTMENT OF COMMERCE

National Oceanic and Atmospheric Administration

[Docket No. 090424759-9760-01]

RIN 0648-ZB55

Ocean Education Grants for AZA Aquariums

AGENCY: Office of Education (OED), Office of the Under Secretary (USEC), National Oceanic and Atmospheric Administration (NOAA), Commerce.

ACTION: Notice of funding availability.

SUMMARY: The NOAA Office of Education (OEd) is issuing a request for applications to support education projects designed to engage the public in activities that increase ocean and/or climate literacy and the adoption of a stewardship ethic. Funded projects will be between one and five years in duration and will support ocean education projects led by eligible applicants. Eligible applicants are only 501(c)(3) non-profit organizations that are either aquariums accredited by the Association of Zoos and Aquariums (AZA) or have a legally sanctioned affiliation with an AZA-accredited aquarium. There is a required 50 percent non-Federal cost-share of the total Federal request, e.g., if the Federal request is $1,000,000, the applicant is required to submit a non-Federal match equal to $500,000. This solicitation meets NOAA's mission goal to protect, restore, and manage the use of coastal and ocean resources through an ecosystem approach to management. It is anticipated that recommendations for funding under this announcement will be made by August 30, 2009, and that projects funded under this announcement will have a start date no earlier than October 1, 2009. Note: A PDF version of this announcement is available at http://www.oesd.noaa.gov/funding_opps.html.

DATES: The deadline for applications is 5 p.m. EDT on June 9, 2009. Applications submitted through Grants.gov are automatically date/time stamped when they are validated and submitted to the Agency. Paper applications must be provided to an expedited shipping service by the deadline and proof of this must be provided by the applicant.

Please Note: When submitting through Grants.gov, you will receive 2 e-mails. An initial e-mail will be sent to confirm your attempt to submit a proposal. This is NOT a confirmation of acceptance of your application. It may take Grants.gov up to two (2) business days to validate or reject the application and send you a second e-mail. Please keep this in mind in developing your submission timeline.

ADDRESSES: The application package is available through Grants.gov (http://www.grants.gov). If an applicant does not have Internet access, please contact one of the Program Officers, Carrie McDougall or Sarah Schoedinger, for information on how to submit an application. See Section VII. Agency Contacts of the federal funding opportunity (FFO) announcement for the Program Officers' contact information. Grants.gov requires applicants to register with the system prior to submitting an application. This registration process can take several weeks and involves multiple steps. In order to allow sufficient time for this process, you should register as soon as you decide you intend to apply, even if you are not yet ready to submit your application. If submitting a collaborative project (see section B.1. below) each submitting institution has to be registered in Grants.gov. If an applicant has problems downloading the application forms from Grants.gov, contact Grants.gov Customer Support at 1-800-518-4726 or support@grants.gov.

FOR FURTHER INFORMATION CONTACT: Please visit the OEd Web site for further information at http://www.oesd.noaa.gov/funding_opps.html or contact the Program Officers: Carrie McDougall at 202-482-0875 or carrie.mcdougall@noaa.gov; or Sarah Schoedinger at 704-370-3528 or sarah.schoedinger@noaa.gov. For those applicants without Internet access, hard copies of referenced documents may be requested from NOAA's Office of Education by contacting Carrie McDougall at 202-482-0875 or Sarah Schoedinger at 704-370-3528 or sending a letter to: Carrie McDougall, Dept. of Commerce, NOAA Office of Education, 1401 Constitution Avenue, NW., Room 6863, Washington, DC 20230; Telephone: 202-482-0875.

SUPPLEMENTARY INFORMATION: The National Oceanic and Atmospheric Administration (NOAA) provides support to improve environmental literacy among our Nation's citizens and promote a diverse workforce in ocean, coastal, Great Lakes, weather, and climate sciences in order to encourage stewardship and increase informed decisionmaking for the Nation. NOAA defines an environmentally literate person as someone who has a fundamental understanding of the systems of the natural world, the relationships and interactions between the living and non-living environment, and the ability to understand and utilize scientific evidence to make informed decisions regarding environmental issues. Improving environmental literacy and the public's understanding of how our Nation's natural resources are managed and the importance of these resources is critical to meeting the Agency's stewardship mission. To address this mission, NOAA engages in informal science education activities at local, state, regional, and national levels, with particular emphasis on reaching communities that are underrepresented in Science, Technology, Engineering and Mathematics (STEM) fields. The goal of this funding program is to support projects that engage the public in educational activities that increase ocean and/or climate literacy and the adoption of a stewardship ethic. This program supports Goal 1 of NOAA's Education Strategic Plan (http://www.education.noaa.gov/plan), specifically Focusing on:

• Outcome 1.2: Educators understand and use environmental literacy principles.

• Outcome 1.3: Educators, students, and/or the public collect and use ocean, coastal, Great Lakes, weather, and climate data in inquiry and evidence-based activities.

• Outcome 1.4: Lifelong learners are provided with informal science education opportunities focused on ocean, coastal, Great Lakes, weather, and climate topics. This program also supports the President's priorities to create a transparent and connected democracy and improve America's competitiveness by preparing our Nation's children for the 21st Century economy by: Making math and science education a national priority; increasing the number of science and math graduates; expanding the number of high-quality afterschool opportunities; and investing in climate-friendly energy development and deployment (http://www.whitehouse.gov/agenda/).

In keeping with Outcome 1.1 of NOAA's Education Strategic Plan highly successful projects will employ effective educational methods that promote stewardship and associated environmental problem-solving. Project activities should be based on established best practices. In particular, the four key recommendations in the National Research Council report on “Learning Science in Informal Environments: People, Places, and Pursuits” (Bell, et al., 2009), excerpted below, incorporate such best practices and should be utilized as appropriate:

Recommendation 1: Exhibit and program designers should create informal environments for science learning according to the following principles. Informal environments should:

• Be designed with specific learning goals in mind (e.g., the strands of science learning).

• Be interactive.

• Provide multiple ways for learners to engage with concepts, practices, and phenomena within a particular setting.

• Facilitate science learning across multiple settings.

• Prompt and support participants to interpret their learning experiences in light of relevant prior knowledge, experiences, and interests.

• Support and encourage learners to extend their learning over time.

Recommendation 2: From their inception, informal environments for science learning should be developed through community-educator partnerships and whenever possible should be rooted in scientific problems and ideas that are consequential for community members.

Recommendation 3: Educational tools and materials should be developed through iterative processes involving learners, educators, designers, and experts in science, including the sciences of human learning and development.

Recommendation 4: Front-line staff should actively integrate questions, everyday language, ideas, concerns, worldviews, and histories, both their own and those of diverse learners. To do so they will need support opportunities to develop cultural competence, and to learn with and about the groups they want to serve.

Proposed projects may include (but are not limited to) the following types of activities: Outdoor/Hands-on Experiential Learning; citizen science programs; civic engagement programs (as discussed below); Integration of emerging and advanced educational technologies (as discussed below); demonstration projects promoting conservation of energy and other natural resources; educational games; youth and community programs; and professional development of informal science education staff. In addition, this program supports the development of permanent and traveling exhibitions and films, television and radio series. These categories of activities (exhibitions, films, television, and radio series) should play a supporting role in the proposed educational projects, rather than be the sole focus of the project.

Civic Engagement Projects: NOAA is specifically interested in experimental programs involving civic engagement activities surrounding locally significant environmental change and hazard resilience. Because aquariums are recognized as places where visitors are prompted “to reconsider their role in environmental problems and conservation action, and to see themselves as part of the solution,” (Falk et al., 2007), aquariums provide a unique learning setting that allows them to serve as a connector between their communities and NOAA resources. Civic engagement programs supported by this grant opportunity should enable aquariums to “seek out issues related to science and society where the voices of citizens should be heard and ensure that dialogue occurs” (Toronto Declaration, 2008). Successful projects will engage local citizens in public deliberations of major environmental issues affecting their lives and empower them to find solutions for those issues as well as contribute to future deliberations occurring on those issues at regional, state, national and even global levels (see recommendations in “Americans and Climate Change: Closing the Gap Between Science and Action: A Synthesis of Insights and Recommendations from the 2005 Yale Conference on Climate Change,” Abbasi, 2006). These projects will build local capacity for sustained civic engagement on these issues beyond the duration of the project. Specific emphasis should be placed on involving traditionally under-represented communities in civic engagement projects and employing innovative collaborations with other aquariums, other institutions and/or networks of institutions.

Emerging and Advanced Technologies Projects may focus on the use of alternative, emerging or advanced technologies or digital interactive media to reach new audiences, e.g., virtual worlds, You-Tube, social networking tools (Twitter, MySpace, Facebook), webcams, kiosks, and Earth-viewing platforms. Earth-viewing platforms include, but are not limited to, the following: NOAA's Science On a Sphere, Magic Planet, Omniglobe, PufferSphere, and immersive cave or dome technologies, or virtual globes, such as Google Earth and NASA's World Wind. Projects involving installations of Science On a Sphere require consultation with John McLaughlin (john.mclaughlin@noaa.gov, 202-482-2893) prior to submission.

Successful projects will exhibit as many of the following characteristics as is relevant and/or feasible:

—Increasing public understanding and appreciation of the interconnectedness of people and the environment, especially with reference to climate change;

—Involving collaborations/partnerships with other aquariums, other types of institutions and/or networks of institutions. Partnerships with science institutions that will be able to provide scientific knowledge and expertise to inform the development of exhibits and/or program content are strongly encouraged. Partnerships with NOAA programs are also encouraged whenever possible. (A summary of NOAA programs and activities sorted by the state or territory in which they are based or focused is available at: http://www.legislative.noaa.gov/NIYS0107/noaainyourstate.html);

—Extending the learning experience beyond a single visit to an aquarium or the simple acquisition of knowledge;

—Assisting participants in increasing their conservation behaviors;

—Employing the strategies of the Citizen Science Tool Kit (see http://www.citizenscience.org);

—Engaging members of populations traditionally underrepresented in STEM fields and provide appropriate cultural contexts for their learning;

—Addressing, as appropriate, recent findings of the Ocean Project's 2009 public literacy survey (http://www.theoceanproject.org/ocean_education_grant_program);

—Aligning activities to principles in “Ocean Literacy: Essential Principles of Ocean Sciences” (http://www.coexploration.org/oceanliteracy/documents/OceanLitConcepts_10.11.05.pdf) and/or “Climate Literacy: The Essential Principles of Climate Science” (http://www.noaa.gov/climateliteracy.html);

—Having clearly stated outcomes/objectives that are measurable and appropriate to the target audience(s) (see Evaluation below for further guidance); and/or

—Sharing information on project impacts and design with NOAA and the broader environmental education community.

Target Audiences:

—Public audiences: including youth, families, adult learners, and community groups; and

—Professional audiences: informal education professionals.

NOAA is supportive of informal education projects that complement formal K-16 education. Toward that end, projects funded through this opportunity shall focus on activities that will occur outside of school.

Project Evaluation: Project activities should be evaluated for their effectiveness in meeting proposed project goals and objectives as well as the goal of the program, which is to engage the public in educational activities that increase ocean and climate literacy and facilitate the adoption of a stewardship ethic. Projects should be based on an existing front-end evaluation/needs assessment and there should be some discussion in the project description of that needs assessment. Plans for formative and summative project evaluations should be well constructed and specific to the project type. For example, projects involving the design of new or modification of existing digital interactive media should consider evaluating the interface design as well as the educational impacts of the proposed project. Discussion of front-end, formative and summative evaluations should be included in both the project description and budget sections. Lastly, potential impact of the project beyond the award period should also be described. Overall, project evaluation should be handled by external professional evaluators or by internal staff who have significant experience with evaluation and are not otherwise substantively involved with the project. Additionally, some projects may require specialized evaluation expertise, for example, in the evaluation of the interface of digital interactive media. Project evaluation should include assessment of changes in the target audiences' attitudes, knowledge, awareness, and/or behaviors as a result of the activities undertaken. Principal Investigators should consider sharing evaluation results and project impacts through presentations and peer-reviewed publications of relevant professional organizations such as the Association of Zoos and Aquariums (AZA), Association of Science Technology Centers (ASTC), North American Association of Environmental Education (NAAEE), National Marine Educators Association (NMEA), etc. Also, summative evaluation reports should be posted to http://www.informalscience.org to further inform the broad field of informal science education about what was learned from the project. It is anticipated that recommendations for funding under this announcement will be made by September 30, 2009 and that projects funded under this announcement will have a start date no earlier than October 1, 2009. Funded projects will be one to five years in duration. This solicitation meets NOAA's Mission Goal to Protect, Restore, and Manage the Use of Coastal and Ocean Resources through an Ecosystem Approach to Management (http://www.ppi.noaa.gov/PPI_Capabilities/Documents/Strategic_Plans/FY09-14_NOAA_Strategic_Plan.pdf).

References Cited

Abbasi, D., 2006. Americans and Climate Change: Closing the Gap Between Science and Action: A Synthesis of Insights and Recommendations from the 2005 Yale Conference on Climate Change. Yale School of Forestry & Environmental Studies. (http://environment.yale.edu/climate/americans_and_climate_change.pdf)

Falk, J.H.; Reinhard, E.M.; Vernon, C.L.; Bronnenkant, K.; Deans, N.L.; Heimlich, J.E., 2007. Why Zoos & Aquariums Matter: Assessing the Impact of a Visit. Association of Zoos & Aquariums. Silver Spring, MD. (http://www.aza.org/ConEd/MIRP/index.html)

The Toronto Declaration of the 5th Science Centre World Congress, 2008. (http://www.5scwc.org/TheTorontoDeclaration/tabid/133/Default.aspx)

Bell, P, Lewenstein, B, Shouse, A.W., Feder, M.A. (eds), 2009. Learning Science in Informal Environments: People, Places, and Pursuits. Committee on Learning Science in Informal Environments, A REPORT OF THE NATIONAL RESEARCH COUNCIL OF THE NATIONAL ACADEMIES, The National Academies Press, Washington, DC.

Electronic Access: The full text of the full Federal funding opportunity announcement for this program can be accessed via the Grants.gov Web site at http://www.grants.gov. The announcement will also be available by contacting the program officials identified under FOR FURTHER INFORMATION CONTACT. Applicants must comply with all requirements contained in the full federal funding opportunity announcement. Statutory Authority: Authority for this program is provided by the following 33 U.S.C. 893a(a).CFDA: 11.469, Congressionally Identified Awards and Projects. Funding Availability: Approximately $7,500,000 of total Federal financial assistance is available for Ocean Education Grants for AZA Aquariums. Funding for these projects is provided by Public Law 111-8 FY 2009 Omnibus Appropriations Act. There will be no funding from the Public Law 111-5 American Recovery and Reinvestment Act of 2009. Approximately 5 to 10 awards in the form of grants or cooperative agreements will be made. For Priority 1, the total Federal amount that may be requested from NOAA shall not exceed $3,000,000 for all years including direct and indirect costs. The minimum Federal amount that must be requested from NOAA for all years for the direct and indirect costs for this priority is $1,000,000. Applications requesting Federal support from NOAA of more than $3,000,000 total for all years will not be considered for funding. For Priority 2, the total Federal amount that may be requested from NOAA shall not exceed $1,000,000 for all years including direct and indirect costs. The minimum Federal amount that must be requested from NOAA for all years for the direct and indirect costs for this priority is $300,000. Applications requesting Federal support from NOAA of less than $300,000 total for all years will not be considered for funding. Up to two applications total per institution may be submitted through this funding opportunity, either one application to each priority or two applications to the same priority. Publication of this notice does not oblige DOC/NOAA to award any specific project or to obligate any available funds. If an applicant incurs any costs prior to receiving an award agreement from an authorized NOAA Grants Officer, the applicant would do so solely at one's own risk of such costs not being included under the award.

Eligibility: Eligible applicants are only 501(c)(3) non-profit organizations that are either (1) aquariums accredited by the Association of Zoos and Aquariums (AZA) or (2) have a legally sanctioned affiliation with an AZA-accredited aquarium. AZA accreditation must be current at the time of submission. Note: Non-AZA-accredited aquariums, non-U.S. institutions, and for-profit entities may be partners on applications but cannot be the lead institution. An eligible applicant may submit up to two applications through this funding opportunity, either one application to each priority or two applications to the same priority.

Cost Sharing Requirements

There is a 50 percent required non-Federal cost-share of the total Federal request, e.g., if the Federal request is $1,000,000, the applicant is required to submit a non-Federal match equal to $500,000. Applicants are instructed to review the guidance provided in 15 CFR 24.24 related to cost-sharing (http://www.oesd.noaa.gov/fundingopportunities/15CFR_Sec_24_24_match_costshare.pdf) and the related circular pertaining to cost principles (http://www.whitehouse.gov/omb/circulars/a122/a122.html). Cost-share or match can come from a variety of public and private sources and can include in-kind goods and services such as private boat use and volunteer labor. Federal sources cannot be considered for matching funds, but can be described in the budget narrative to demonstrate additional leverage. Applicants are permitted to combine contributions from multiple non-Federal partners in order to meet the 50% match requirement, as long as such contributions are not being used to match any other funds.

Evaluation and Selection Procedures

The general evaluation criteria and selection factors that apply to full applications to this funding opportunity are summarized below. Further information about the evaluation criteria and selection factors can be found in the full federal funding opportunity announcement.

Evaluation Criteria for Projects:

(1) Importance and/or relevance and applicability of proposed project to the program goals (30%):

This ascertains whether there is intrinsic value in the proposed work and/or relevance to NOAA's Federal, regional, or local activities. The application should describe how well the proposed project addresses NOAA's stated objectives and priorities. Reviewers will evaluate:

• How well the project addresses the goals and objectives of this funding program;

• How well the project is aligned with NOAA education goals and strategies as described in the NOAA Education Strategic Plan (http://www.education.noaa.gov/plan);

• For projects focusing on the ocean as a part of the Earth system, the extent to which the project will infuse the “Ocean Literacy: The Essential Principles of Ocean Sciences” (http://www.coexploration.org/oceanliteracy/documents/OceanLitConcepts_10.11.05.pdf) into the project activities;

• For projects focusing on climate change, the extent to which the project will infuse “Climate Literacy: The Essential Principles of Climate Science” (http://climate.noaa.gov/climateliteracy) into the project activities; and

• The extent to which members of traditionally underrepresented groups in Science, Technology, Engineering, and Math (STEM) fields are involved. A listing of groups traditionally underrepresented in STEM fields can be found in the 2008 NSF Science and Engineering Indicators Report at http://www.nsf.gov/statistics/seind08/c3/c3s1.htm#c3s116.

(2) Technical/scientific merit (30%):

This assesses whether the approach is technically sound and/or innovative, if the methods are appropriate, and whether there are clear project goals and objectives. Reviewers will evaluate:

• The completeness and adequacy of detail in the project description including clearly stated goals and measurable objectives;

• The overall technical feasibility of the project, including whether the proposed approach is educationally and technically sound, is based on best practices and/or needs assessments, uses appropriate methods to achieve project outcomes and is likely to be implemented on the scale described;

• The likelihood of meeting milestones and achieving anticipated results in the time proposed;

• The appropriateness of the identified target audience(s) and proposed methods to impact the stated audience(s);

• Whether there is a clear delineation of responsibilities of the project's key personnel and whether there are adequate communication mechanisms in place for coordinating among project partners;

• The value and appropriateness of proposed collaborations;

• The extent to which the project leverages other resources or investments to achieve its objectives;

• The likelihood the project can be sustained beyond the duration of the grant;

• The likelihood the impacts of the project on the target audience will be long-lasting; and

• Whether there are appropriate mechanisms to evaluate the success of the project in meeting the anticipated outcomes.

(3) Overall Qualifications of Applicants (15%):

This ascertains whether the applicant possesses the necessary education, experience, training, facilities, and administrative resources to accomplish the project. Reviewers will evaluate:

• The qualifications and demonstrated ability within their areas of expertise of the applicants, of key personnel who would receive funds from this program, and of key personnel of the project partners;

• The applicant's previous experience in managing, designing, and implementing educational programs;

• The evaluators' previous experience in managing, designing and implementing evaluations appropriate for the target audiences and proposed activities;

• The likelihood that the participating institution(s) have the appropriate resources to carry out the proposed activities and that applicant(s) have the ability to complete the proposed project successfully;

• The level of collaboration with other programs, minority-serving institutions (MSIs), NOAA entities, or other educational or research institutions; and

• The extent to which all partners are contributing meaningfully to the project, including articulation of activities in letters of commitment.

(4) Project Costs (15%):

The budget is evaluated to determine if it is realistic and commensurate with the project needs and time-frame. Reviewers will evaluate:

• The adequacy of the proposed resources to accomplish the proposed work within the indicated time-frame;

• If there are additional funds that provide additional leverage; and

• The adequacy of detail in the budget narrative to allow an informed determination of how well all costs associated with the project are justified.

(5) Outreach and Education (10%):

This criterion ascertains whether this project provides a focused and effective education and outreach strategy regarding NOAA's mission to protect the Nation's natural resources. Reviewers will evaluate:

• How the outcomes and results of the proposed project will be disseminated to audiences beyond those participating directly in the project. These may include publications, conferences, community events, media, etc. associated with professional organizations such as AZA, ASTC, NAAEE and NMEA; and

• The likelihood that the project will increase awareness and use of NOAA resources among target audiences.

Review and Selection Process

Upon receipt of a completed application by NOAA, an initial administrative review is conducted to determine compliance with requirements and completeness of the application. Minimum requirements include all of the following:

• Applicant is a 501(c)(3) non-profit aquarium or organization associated with an aquarium;

• Application was received on time;

• All required elements of the application are present and follow format guidance;

• Requested budget is no less than $300,000 and no more than $3,000,000 for all years of the project;

• 50% non-Federal match is included in project budget; and

• Project duration is 1 to 5 years.

All applications that meet the eligibility and minimum requirements and that are ascertained to be complete will be evaluated and scored by a panel of independent reviewers. The reviews will be conducted by panel review. Reviewers may be Federal or non-Federal experts, each having expertise in a separate area so that the reviewers as a whole cover the spectrum of applications received. The reviewers will score each application using the evaluation criteria and relative weights provided above. The individual review ratings shall be averaged for each application to establish rank order. No consensus advice will be given by the review panel. The Program Officer will neither vote nor score applications as part of the review process. The Program Officer will make his/her recommendations for funding based on rank order and the selection factors listed in the next paragraph to the Selecting Official, the Director of NOAA Education, for the selection of applications.

Selection Factors for Projects

The panel review ratings shall provide a rank order to the Selecting Official for final recommendation to the NOAA Grants Officer. The Selecting Official will select applications based on the evaluation criteria and rank order established by each panel unless the application is justified to be selected out of rank order based upon one or more of the following factors:

1. Availability of funding;

2. Balance/distribution of funds:

a. Geographically

b. By type of institutions

c. By type of partners

d. By research areas

e. By project types

3. Whether this project duplicates other projects funded or considered for funding by NOAA or other Federal agencies;

4. Program priorities and policy factors;

5. Applicant's prior award performance;

6. Partnerships and/or participation of targeted groups;

7. Adequacy of information necessary for NOAA staff to make a NEPA determination and draft necessary documentation before recommendations for funding are made to the Grants Officer. Selected applicants may be asked to modify objectives, project plans, time lines, or budgets, and provide supplemental information required by the agency prior to the award. When a decision has been made (whether an award or declination), anonymous copies of reviews and summaries of review panel deliberations, if any, will be made available to the applicant.

Intergovernmental Review

Applications submitted to this funding opportunity are not subject to Executive Order 12372, Intergovernmental Review of Federal Programs.

Limitation of Liability

In no event will NOAA or the Department of Commerce be responsible for proposal preparation costs if these programs fail to receive funding or are cancelled because of other agency priorities. Publication of this announcement does not oblige NOAA to award any specific project or to obligate any available funds.

National Environmental Policy Act

NOAA must analyze the potential environmental impacts, as required by the National Environmental Policy Act (NEPA), for applicant projects or proposals which are seeking NOAA Federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements

The Department of Commerce Pre-Award Notification Requirements for Grants and Cooperative Agreements contained in the Federal Register notice of February 11, 2008 (73 FR 7696), are applicable to this solicitation.

Paperwork Reduction Act

This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: April 28, 2009.
Mitchell J. Ross,
Director, Acquisition and Grants Office.

[FR Doc. E9-10166 Filed 5-1-09; 8:45 am]

BILLING CODE 3510-22-P